DEPARTMENT OF ENERGY

Federal Energy Regulatory Commission

[Docket No. RP02-158-000]

Viking Gas Transmission Company; Notice of Tariff Filing

February 21, 2002.

Take notice that on February 13, 2002, Viking Gas Transmission Company (Viking) tendered for filing as part of its FERC Gas Tariff, First Revised Volume No. 1, the following tariff sheets to become effective March 1, 2002:

1st Rev. Twenty-Seventh Revised Sheet No. 6

1st Rev. Twentieth Revised Sheet No. 6A

1st Rev. Eleventh Revised Sheet No. 6B

Viking states that the purpose of this filing is to make Viking's annual adjustment to its Fuel and Loss Retention Percentages (FLRP) in accordance with section 154.403 of the Commission's rules and regulations, 18 CFR 154.403 (2001) and section 26 of the General Terms and Conditions of Viking's FERC Gas Tariff. Application of section 26 of Viking's tariff results in the following new Fuel and Loss Retention Percentages for Rate Schedules FT-A, FT-B, FT-C, FT-D, IT and AOT respectively: 1.18 percent for Zone 1-1, 1.42 percent for Zone 1-2, and .33 percent for Zone 2-2. In addition, Viking is respectfully seeking waiver of section 26 of its FERC Gas Tariff in order to place the new FLRPs into effect on March 1, 2002 rather than on April 1, 2002 so as to provide the benefits of reduced FLRPs to Viking's shippers one month earlier.

If the Commission declines to grant Viking's request, then Viking respectfully submits for filing the tariff sheet listed below to be part of its FERC Gas Tariff, First Revised Volume No. 1 to be effective on April 1, 2002:

Alt. 1st Rev. Twenty-Seventh Revised Sheet No. 6

Alt. 1st Rev. Twentieth Revised Sheet No. 6A

Alt. 1st Rev. Eleventh Revised Sheet No. 6B

Viking states that copies of the filing have been mailed to all of its jurisdictional customers and to affected state regulatory commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4610 Filed 2-26-02; 8:45 am]

BILLING CODE 6717-01-P